NATIONAL AERONAUTICS AND SPACE ADMINISTRATION

14 CFR Part 1214

RIN 2700-AC40

[Notice: (06-067)]

Code of Conduct for International Space Station Crew

AGENCY: National Aeronautics and Space Administration.

ACTION: Final rule.

SUMMARY: The National Aeronautics and Space Administration (NASA) has adopted as final, without change, an interim final rule regarding the policy and procedures for International Space Station crewmembers provided by NASA for flight to the International Space Station.

DATES: Effective Date: September 26, 2006.

FOR FURTHER INFORMATION CONTACT: Mick Schlabs, Senior Attorney, International Law Practice Group, Office of the General Counsel, NASA Headquarters, telephone (202) 358-2068, fax (202) 358-4117.

SUPPLEMENTARY INFORMATION:

A. Background

NASA published an interim final rule at 65 FR 80303 on December 21, 2000 to set forth policy and procedures with respect to International Space Station crewmembers provided by NASA for flight to the International Space Station. They apply to all persons so provided, including U.S. Government employees, uniformed members of the Armed Services, citizens who are not employees of the U.S. Government, and foreign nationals.

NASA received no comments on the interim final rule. Therefore, NASA has adopted the interim final rule as a final rule without change.

This rule is not a major Federal action as defined in Executive Order 12866.

B. Regulatory Flexibility Act

NASA certifies that this final rule will not have a significant economic impact on a substantial number of small entities within the meaning of the Regulatory Flexibility Act, 5 U.S.C. 601, et seq., because the administrative notification requirements of the rule are expected to affect less than 10 contracts per year.

C. Paperwork Reduction Act

The information collection requirements of the rule do not reach the threshold for requiring the Office of Management and Budget's approval under 44 U.S.C. 3501, et seq.

List of Subjects in 14 CFR Part 1214

Code of Conduct for International Space Station Crew.

Michael D. Griffin,
Administrator.

Interim Final Rule Adopted as Final without Change.

Accordingly, the interim final rule implementing certain provisions of the International Space Station (ISS) Intergovernmental Agreement (IGA) regarding ISS crewmembers' observance of an ISS Code of Conduct, which was published at 65 FR 80303 on December 21, 2000, is adopted as a final rule without change.

[FR Doc. 06-8186 Filed 9-25-06; 8:45 am]

BILLING CODE 7510-13-P